DEPARTMENT OF DEFENSE

Department of the Army, Corps of Engineers

Availability of the Draft Environmental Impact Statement for the Missouri River Master Water Control Manual Review and Update

AGENCY: U.S. Army Corps of Engineers, DoD.

ACTION: Notice.

SUMMARY: In accordance with the National Environmental Policy Act and implementing regulations, a Revised Draft Environmental Impact Statement (RDEIS) has been prepared to evaluate the environmental impacts of changes in the U.S. Army Corps of Engineers (Corps) operation of the Missouri River Mainstem Reservoir System. The Missouri River Master Water Control Manual (Master Manual) specifies the operating criteria for the operation of six Corps dams on the mainstem of the Missouri River. The original Master Manual was published in December 1960. Revisions were made in 1973 and 1975 and a revised Master Manual was published in 1975. The existing Master Manual establishes guidelines for operation of the reservoir system for the multiple project purposes of flood control, hydropower, water supply, water quality, irrigation, navigation, recreation, and fish and wildlife. In addition, the existing Master Manual includes criteria for how reservoir storage is divided and how water is released from the reservoirs during navigation and nonnavigation periods. Each year an Annual Operating Plan is developed using the water control plan outlined in the Master Manual as a guide. During the period 1987-1993, the Missouri River basin experienced a moderate to severe drought. There were numerous lawsuits concerning the Corps operation of the reservoirs. In November 1989, the Corps initiated a Review and Update of the Master Manual and published a Draft Environmental Impact Statement (DEIS) in 1994. In response to public comment and requests for additional studies received during the comment period following publication of the DEIS, the Corps has revised that document. The RDEIS analyzes the environmental effects of a set of six alternative operating plans for the Master Manual—the current water control plan (CWCP), a modified conservation plan (MCP), and four alternatives that add various Gavins Point Dam releases to the MCP. These latter four alternatives, referred to as the GP options, address changes in water releases from Gavins Point Dam that the U.S. Fish and Wildlife Service (USFWS) recommended in their November 2000 Final Biological Opinion (BiOp) for the Corps operation of three Missouri River basin projects. The USFWS feels these changes in releases, in conjunction with other operational and non-operational measures, are necessary to ensure that the Corps operation of the Mainstem Reservoir System is not likely to jeopardize the continued existence of any listed species or result in the destruction or modification of critical habitat for the listed species.

FOR FURTHER INFORMATION CONTACT: Questions regarding the RDEIS may be sent to Rosemary Hargrave, U.S. Army Corps of Engineers, Northwestern Division, 12565 West Center Road, Omaha, Nebraska 68114-3869. Ms. Hargrave can also be contacted by telephone at (402) 697-2527, or email at rosemary.c.hargrave@usace.army.mil.

SUPPLEMENTARY INFORMATION: The Missouri River originates at Three Forks, Montana and travels 2,341 miles to its confluence with the Mississippi River near St. Louis, Missouri, draining one sixth of the United States. The Mainstem Reservoir System consists of six dams and reservoirs located in Montana, North Dakota, South Dakota, and Nebraska. The System has the capacity to store 73.4 million acre-feet of water, which makes it the largest system of reservoirs in North America. Water flowing down the Missouri River is stored in the six lakes and released as needed for project purposes. The planes of conflict surrounding the revision of the Master Manual are numerous, complex, and contentious. While the basin has made historic progress during the last decade, significant controversy still remains. Much controversy centers on proposed changes in spring and summer releases from Gavins Point Dam for three species provided protection under the Endangered Species Act.

There are 30 federally recognized Native American Tribes in the Missouri River Basin. Thirteen reservations are located on the mainstem of the Missouri River. The Tribes are dependent sovereign nations and also hava a Trust relationship with the Corps. The Corps is currently in government-to-government consultation with five Tribes, and urges all of the basin Tribes to enter into consultation with Corps. The RDEIS specifically identifies impacts to Tribes resulting from changes in the operation of the Mainstem Reservoir System. Tribal participation during the public comment period will be developed in partnership with the Tribes.

A 6-month public comment period will follow release of the RDEIS. Oral, written, and electronic comments will be accepted until February 28, 2002. Prior to this date, the Corps will hold Tribal and public informational workshops and hearings throughout the Missouri River basin and at some Mississippi River locations. Dates and locations of these workshops will be provided in a September newsletter and on the Corps' Northwestern Division web page at http://www.nwd.usace.army.mil.

Luz D. Ortiz,
Army Federal Register Liaison Officer.

[FR Doc. 01-21696 Filed 8-27-01; 8:45 am]

BILLING CODE 3710-62-M